DEPARTMENT OF TRANSPORTATION

Federal Railroad Administration

Petition for Waiver of Compliance

In accordance with Title 49 Code of Federal Regulations (CFR) 211.9 and 211.41, notice is hereby given that the Federal Railroad Administration (FRA) has received a request for waiver of compliance from certain requirements of Federal railroad safety regulations. The individual petition is described below, including the parties seeking relief, the regulatory provisions involved, the nature of the relief being requested, and the petitioner's arguments in favor of relief.

Alaska Railroad Corporation

[Docket Number FRA-2006-26029]

As part of the informational filing submitted September 27, 2006 (Docket No. FRA-2006-26029) the Alaska Railroad Corporation (ARRC) has filed a petition for regulatory relief from the following regulations: 49 CFR 216.13 (Special Notice of Repairs—Locomotive), 49 CFR 217.9 (Program of Operational Tests and Inspections—Recordkeeping), 49 CFR 217.11 (Program of Instruction on Operating Rules—Recordkeeping, Electronic Recordkeeping), 49 CFR 218(d) (Prohibition Against Tampering with Safety Devices), 49 CFR 229.7 (Prohibited Acts), 49 CFR 229.135 (Event Recorders), 49 CFR 233.9 (Reports), 49 CFR 235.5 (Changes Requiring Filing of Application), 49 CFR 240.127 (Criteria for Examining Skill Performance), and 49 CFR 240.129 (Criteria for Monitoring Operational Performance of Certified Engineers), for testing related to the Collision Avoidance System (CAS) on a railroad corridor from south of the Anchorage Terminal to Portage, within the State of Alaska, on the Alaska Division and the Whittier Division. The ARRC proposes to identify the specific parts of these territories on which testing will occur 30 days before the start of testing.

The regulatory relief requested is only for CAS-related equipment and testing, commencing fourth quarter 2006 through the conclusion of CAS testing and submission, and approval of the Product Safety Plan (PSP). The request for regulatory relief will not apply to non-CAS equipment and operations. Details of the specific relief requested and the associated rationale are specified in the ARRC letter of September 27, 2006 (Docket No. FRA-2006-26029).

FRA will accept comments under the provisions of 49 CFR part 211 for regulatory relief of these requirements.

As part of the same informational filing, ARRC also requests exemption under the provisions of 49 CFR 236.913(j)(1)(iv) for relief from various parts of 49 CFR part 236, subparts A-G. FRA will independently impose appropriate conditions necessary for the safety of train operations regarding exemptions from part 236, subparts A-G under the provisions of 49 CFR 236.913(j)(2).

Interested parties are invited to review the informational filing and provide written information or comments pertinent to FRA's consideration of the above request for waiver of compliance. All communications concerning this petition should identify the appropriate docket number (FRA-2006-26029) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communication received within 30 days of the date of this notice will be considered by FRA prior to final action being taken. Comments received after that date will be considered to the extent practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC on November 9, 2006.
Grady C. Cothen, Jr.,
Deputy Associate Administrator for Safety Standards and Program Development.

[FR Doc. E6-19242 Filed 11-14-06; 8:45 am]

BILLING CODE 4910-06-P